DEPARTMENT OF THE INTERIOR

Fish and Wildlife Service

[FWS-R3-R-2013-N075; FXRS1265030000-134-FF03R06000]

Iowa Wetland Management District, 35 Counties in North-Central and Northwest Iowa; Environmental Assessment and Draft Comprehensive Conservation Plan

AGENCY: Fish and Wildlife Service, Interior.

ACTION: Notice of availability; request for comments.

SUMMARY: We, the U.S. Fish and Wildlife Service (Service), announce the availability of an environmental assessment (EA) and draft comprehensive conservation plan (CCP) for the Iowa Wetland Management District (district, WMD) for public review and comment. In this EA/draft CCP we describe how we propose to manage the district for the next 15 years.

DATES: To ensure consideration, we must receive your written comments by September 18, 2013. We will hold open house-style meetings during the comment period to receive comments and provide information on the EA and draft CCP. In addition, we will use special mailings, newspaper articles, internet postings, and other media announcements to inform people of opportunities for input.

ADDRESSES: Send your comments or requests for more information by any one of the following methods:

• Email: r3planning@fws.gov. Include “Iowa WMD EA/Draft CCP” in the subject line of the message.

• Fax: Attention: Refuge Manager, 515-928-2230.

• U.S. Mail: Attention: Refuge Manager Tim Miller, Iowa Wetland Management District, 1710 360th Street, Titonka, IA 50480.

• In-Person Drop Off: You may drop off comments during regular business hours at the above address.

You will find the EA and Draft CCP with an executive summary, as well as information about the planning process, on the planning Web site: http://www.fws.gov/midwest/planning/iowawetlands/index.html.

FOR FURTHER INFORMATION CONTACT: Tim Miller, 515-928-2523.

SUPPLEMENTARY INFORMATION:

Introduction

With this notice, we continue the CCP planning process for the Iowa Wetland Management District, which we began by publishing a notice of intent in the Federal Register (75 FR 7289) on February 18, 2010. For more about the initial process and the history of the district, see that notice.

Background

The National Wildlife Refuge System Administration Act of 1966, as amended by the National Wildlife Refuge System Improvement Act of 1997 (16 U.S.C. 668dd-668ee) (Administration Act), requires us to develop a CCP for each national wildlife refuge (including wetland management districts). The purpose in developing a CCP is to provide the district manager with a 15-year strategy for achieving district purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each unit within the NWRS mission, and to determine how the public can use each unit. The planning process is a way for us and the public to evaluate management goals and objectives that will ensure the best possible approach to wildlife, plant, and habitat conservation, while providing for wildlife-dependent recreation opportunities that are compatible with each unit's establishing purposes and the mission of the NWRS.

Additional Information

The EA/draft CCP, which includes detailed information about the planning process, district, issues, and management alternatives considered and proposed, may be found at http://www.fws.gov/midwest/planning/iowawetlands/index.html. There are four alternative management options considered in the EA. The Service's preferred alternative is reflected in the draft CCP. The following regulation would be implemented on the Service's fee title property within the district under any alternative: “You may only use or possess approved nontoxic shot shells while in the field, including shot shells used for hunting wild turkey.”

The alternatives analyzed in detail include:

• Alternative A, Current Management (No Action): This no-action alternative reflects the current management of the Iowa WMD. It provides the baseline against which to compare other alternatives.

• Alternative B, Breeding Waterfowl: This alternative focuses on managing for breeding waterfowl by restoring cropland to perennial grassland in the uplands and restoring semi- or less permanent pothole wetlands in the lowlands. Food plots would be eliminated from the district, because they are not essential for breeding waterfowl survival. Environmental education, interpretation, and outreach would remain at current levels, with more emphasis on distributing a consistent message for the entire district. Public use opportunities would remain limited to hunting, fishing, and trapping.

• Alternative C, Migrating Waterfowl: This alternative focuses on managing for migrating waterfowl by restoring cropland to perennial grassland in the uplands. Restoration in the lowlands would focus on semi- or less permanent pothole wetlands important to the restoration of semi-permanent to shallow lakes. This strategy would provide good water quality to support native vegetation and invertebrates as high-quality food for migrating waterfowl. Some food plots would remain within the district as an additional food source. Environmental education, interpretation, and outreach would remain at current levels, with more emphasis on distributing a consistent message for the entire district. Public use facilities (kiosks, etc.) would be provided at key locations, and other recreational opportunities would be provided, in addition to hunting, fishing, and trapping.

• Alternative D, Breeding Waterfowl (Preferred Alternative): This alternative has components from all other alternatives. As in Alternative B, it focuses on managing for breeding waterfowl. Restoring cropland to perennial grassland would be the dominant activity in the uplands, while a variety of pothole wetlands would be the focus for restoration in the lowlands, especially those important to restoration of semi-permanent to shallow lakes. A diversity of wetland types would provide for a greater diversity of wildlife, in particular, grassland and other wetland birds. As in Alternative C, public use opportunities, in addition to hunting, fishing, and trapping, as well as some additional public use facilities (kiosks, etc.), would be provided, and some food plots would remain. Once again, environmental education, interpretation, and outreach would remain at current levels, with more emphasis on distributing a consistent message for the entire district.

Public Involvement

We will give the public an opportunity to provide input at public meetings. You can obtain the schedule from the address or Web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director, Midwest Region, U.S. Fish and Wildlife Service.

[FR Doc. 2013-20088 Filed 8-16-13; 8:45 am]

BILLING CODE 4310-55-P